DEPARTMENT OF ENERGY

Federal Energy Regulatory Commission

[Docket No. RP02-432-002]

Southern LNG Inc.; Notice of Compliance Filing

December 6, 2002.

Take notice that on November 26, 2002, Southern LNG Inc. (SLNG) tendered for filing as part of its FERC Gas Tariff, Original Volume No. 1, the following tariff sheets, with an effective date of October 1, 2002:

Substitute First Revised Sheet No. 62

Substitute Original Sheet No. 62A

SLNG states that the purpose of this filing is to implement certain modifications to its tariff sheets in compliance with the Commission's Order issued on November 15, 2002, in the captioned proceeding to include North American Energy Standards Board Wholesale Gas Quadrant (NAESB-WCQ) Standards 1.3.2(iii) and (iv) relating to intra-day nomination cycles to be effective October 1, 2002.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Magalie R. Salas,
Secretary.

[FR Doc. 02-31323 Filed 12-11-02; 8:45 am]

BILLING CODE 6717-01-P